CHEMICAL SAFETY AND HAZARD INVESTIGATION BOARD

Sunshine Act Meeting

TIME AND DATE: January 26, 2022, 2:00 p.m. EDT (1.5 hours)

PLACE: The meeting will be held virtually via ZOOM. The access information will be provided by email to registrants. Registration is required via the below link: https://www.zoomgov.com/meeting/register/vJItdeitrj4uEiWH1mi6iK-GmGrWpDP2YWA. After registering, you will receive a confirmation email containing information about joining the meeting.

STATUS: Open to the public.

MATTERS TO BE CONSIDERED: The Chemical Safety and Hazard Investigation Board (CSB) will convene a public meeting on Wednesday, January 26, 2022, at 2:00 p.m. EDT. This meeting serves to fulfill its quarterly January public meeting requirement. The Board will review the CSB's progress in meeting its mission and highlight safety products newly released through investigations and safety recommendations.

CONTACT PERSON FOR FURTHER INFORMATION: Hillary Cohen, Communications Manager, at public@csb.gov or (202) 446-8094. Further information about this public meeting can be found on the CSB website at: www.csb.gov.

ADDITIONAL INFORMATION:

Background

The CSB is an independent federal agency charged with investigating incidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Participation

The meeting is free and open to the public. This meeting will only be available via ZOOM. Close captions (CC) will be provided.

To submit public comments for the record please email us at public@csb.gov. Public comments sent in advance may be addressed at the meeting.

Dated: December 28, 2021.
Tamara Qureshi,
Assistant General Counsel, Chemical Safety and Hazard Investigation Board.

[FR Doc. 2021-28464 Filed 12-28-21; 4:15 pm]

BILLING CODE 6350-01-P